DEPARTMENT OF DEFENSE

Department of Navy

Notice of Intent To Grant a Partially Exclusive License; Microclimatek, Inc.

AGENCY: Department of the Navy, DoD.

ACTION: Notice.

SUMMARY: The Department of the Navy hereby gives notice of its intent to grant to Microclimatek, Inc. located at 745 East County Down Drive, Chandler, Arizona 85249, a revocable, nonassignable, partially exclusive license throughout the United States (U.S.) in the fields of Semiconductor Clean Room Industry, Mining Industry, High Temperature Manufacturing Industry, Outdoor Sporting Apparel and Outdoor and Indoor Personal Wear for Body Comfort the Government-Owned inventions described in U.S. Patent Number 7,331,183 issued on February 19, 2008 entitled “Personal Portable Environmental Control System”.

ADDRESSES: Written objections are to be filed with the Naval Air Warfare Center Aircraft Division, Technology Transfer Office, Attention Michelle Miedzinski, Code 5.0H, 22473 Millstone Road, Building 505, Room 117, Patuxent River, Maryland 20670.

DATES: Anyone wishing to object to the grant of this license must file written objections along with supporting evidence, if any, within sixty (60) days of the date of this published notice.

FOR FUTHER INFORMATION CONTACT: Michelle Miedzinski, 301-342-1133, Naval Air Warfare Center Aircraft Division, 22473 Millstone Road, Building 505, Room 117, Patuxent River, Maryland 20670

Authority: 35 U.S.C. 207, 37 CFR part 404.

Dated: December 2, 2014.
N.A. Hagerty-Ford,
Commander, Judge Advocate General's Corps, U.S. Navy, Federal Register Liaison Officer.

[FR Doc. 2014-28950 Filed 12-9-14; 8:45 am]

BILLING CODE 3810-FF-P